NATIONAL AERONAUTICS AND SPACE ADMINISTRATION

[Notice: 05-097]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Kathy Shaeffer, Mail Suite 6M70, National Aeronautics and Space Administration, Washington, DC 20546-0001.

FOR FURTHER INFORMATION CONTACT: Requests for additional information or copies of the information collection instrument(s) and instructions should be directed to Kathy Shaeffer, Acting NASA Reports Officer, NASA Headquarters, 300 E Street SW., Mail Suite 6M70, Washington, DC 20546, (202) 358-1230, kathleen.shaeffer-1@nasa.gov.

Title: Cost Reduction Proposals Under the NASA FAR Supplement Shared Savings Clause.

SUPPLEMENTARY INFORMATION:

I. Abstract

The National Aeronautics and Space Administration (NASA) is requesting renewal of an existing collection to enable contracting officers to determine acceptance of cost reduction proposals, and, if approved, to provide periodic reporting to ensure cost savings are being realized. Collection is prescribed in the NASA Federal Acquisition Regulation Supplement, Subpart 1843.71, Shared Savings, and contract clauses.

The information is used by contracting officers to ensure projected cost savings have merit and are being realized after adoption of shared savings proposals.

II. Method of Collection

NASA collects this information electronically where feasible, but information may also be collected by mail or fax.

III. Data

Title: Cost Reduction Proposals Under the NASA FAR Supplement Shared Savings Clause.

OMB Number: 2700-0094.

Type of Review: Extension of a currently approved collection.

Affected Public: Business or other for-profit; Not-for-profit institutions; Federal Government.

Estimated Number of Respondents: 4.

Estimated Time Per Response: 45.

Estimated Total Annual Burden Hours: 180.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Patricia L. Dunnington,
Chief Information Officer.

[FR Doc. 05-10187 Filed 5-20-05; 8:45 am]

BILLING CODE 7510-13-P